DEPARTMENT OF ENERGY

Federal Energy Regulatory Commission

[Project No. 3451-047]

Beaver Falls Municipal Authority; Notice of Application Ready for Environmental Analysis and Soliciting Comments, Recommendations, Terms and Conditions, and Prescriptions

Take notice that the following hydroelectric application has been filed with the Commission and is available for public inspection.

a. Type of Application: New Major License.

b. Project No.: 3451-047.

c. Date filed: August 1, 2022.¹

¹ The Commission's Rules of Practice and Procedure provide that if a deadline falls on a Saturday, Sunday, holiday, or other day when the Commission is closed for business, the deadline does not end until the close of business on the next business day. 18 CFR 385.2007(a)(2). Because the deadline for filing a license application fell on a Sunday (i.e., July 31, 2022), the deadline was extended until the close of business on Monday, August 1, 2022.

d. Applicant: Beaver Falls Municipal Authority (Beaver Falls).

e. Name of Project: Townsend Water Power Project (Townsend Project or project).

f. Location: The project is located on the Beaver River, in the Borough of New Brighton in Beaver County, Pennsylvania.

g. Filed Pursuant to: Federal Power Act, 16 U.S.C. 791(a)-825(r).

h. Applicant Contact: James Riggio, General Manager, Beaver Falls Municipal Authority, P.O. Box 400, Beaver Falls, PA 15010; (724) 846-2400.

i. FERC Contact: Claire Rozdilski at (202) 502-8259; or email at claire.rozdilski@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, please send a paper copy via the U.S. Postal Service to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Townsend Water Power Project (P-3451-047).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted and is ready for environmental analysis at this time.

l. The project facilities consist of: (1) a 450-foot-long and 13-foot-high dam, constructed of rock-filled timber cribs encased in concrete, with a 350-foot-long spillway and an average dam crest elevation of 698.63 feet; ² (2) an approximately 25-acre reservoir with a gross storage capacity of 200 acre-feet at normal water surface elevation of 698.78 feet; (3) a short entrance channel excavated in rock near the left dam abutment that directs water to an intake structure with 17-foot-wide trashracks with 5-inch clear bar spacing; (4) a 52-foot-long by 46-foot-wide concrete powerhouse; (5) two double-regulated open-pit type turbine-generator units each rated at 2,500 kilowatts (kW) for a total installed capacity of 5,000 kW; (6) an approximately 230-foot-long tailrace, excavated in rock at a normal tailwater elevation of 681.17 feet; (7) a 500-foot-long, 23-kilovolt (kV) transmission line owned by Duquesne Light Company; (8) 4.16-kV generator leads, a 60-foot-long section of 5-kV underground cable leading to a 4.16/23-kV transformer in an outdoor substation; and (9) appurtenant facilities. The average annual generation was 19,524 megawatt-hours for the period from 2015 to 2019.

² All vertical elevations herein are referenced in National Geodetic Vertical Datum of 1929.

The Townsend Project operates in a run-of-river mode with a continuous minimum flow of 304 cubic feet per second (cfs), or inflow, whichever is less, conveyed to the bypassed reach for the protection of aquatic resources. The flow for operating a single unit is 600 cfs and minimum river flow for the project operation is 904 cfs. There is minimal to no available usable storage behind the dam and if river flow is less than 904 cfs, all water is spilled over the dam. The project is typically operated automatically, but manual operation may occur during dynamic high-water events. The project is returned to automatic operation when flow decreases.

m. This filing may be viewed on the Commission's website at https://www.ferc.gov using the “eLibrary” link. Enter the docket number excluding the last three digits in the docket number field, to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

You may also register online at http://www.ferc.gov/docs-filing/esubscription.asp to be notified via email of new filings and issuances related to this or other pending projects. For assistance, contact FERC Online Support.

n. The applicant must file no later than 60 days from the issuance date of this notice: (1) a copy of the water quality certification; (2) a copy of the request for certification, including proof of the date on which the certifying agency received the request; or (3) evidence of a waiver of water quality certification.

o. Procedural schedule: The application will be processed according to the following schedule. Revisions to the schedule will be made as appropriate.

Milestones | Target date
Deadline for filing comments, recommendations, terms and conditions, and prescriptions | February 10, 2025.
Deadline for filing reply comments | March 27, 2025.

p. Final amendments to the application must be filed with the Commission no later than 30 days from the issuance date of this notice.

Dated: December 12, 2024.
Debbie-Anne A. Reese,
Secretary.

[FR Doc. 2024-30063 Filed 12-18-24; 8:45 am]

BILLING CODE 6717-01-P